DEPARTMENT OF THE INTERIOR

Bureau of Land Management

[MT-926-04-1420-BJ]

Montana: Filing of Plats of Amended Protraction Diagrams

AGENCY: Bureau of Land Management, Montana State Office, Interior.

ACTION: Notice of Filing of Plats of Amended Protraction Diagrams.

SUMMARY: The Bureau of Land Management (BLM) will file the plats of the amended protraction diagrams of the lands described below in the BLM Montana State Office, Billings, Montana, (30) days from the date of publication in the Federal Register.

FOR FURTHER INFORMATION CONTACT: Robert L. Brockie, Cadastral Surveyor, Branch of Cadastral Survey, Bureau of Land Management, 5001 Southgate Drive, P.O. Box 36800, Billings, Montana 59107-6800, telephone (406) 896-5125 or (406) 896-5009.

SUPPLEMENTARY INFORMATION: The amended protraction diagrams were prepared at the request of the U.S. Forest Service and are necessary to accommodate Revision of Primary Base Quadrangle Maps for the Geometronics Service Center. The lands for the prepared amended protraction diagrams are:

Principal Meridian, Montana

Tps. 11, 12, 13, 14, and 15 S., Rs. 5 E.

The plat, representing the Amended Protraction Diagram 3 Index of unsurveyed Townships 11, 12, 13, 14, and 15 South, Ranges 5 East, Principal Meridian, Montana, was accepted September 10, 2003.

T. 11 S., R. 5 E.

The plat, representing Amended Protraction Diagram 3 of unsurveyed Township 11 South, Range 5 East, Principal Meridian, Montana, was accepted September 10, 2003.

T. 12 S., R. 5 E.

The plat, representing Amended Protraction Diagram 3 of unsurveyed Township 12 South, Range 5 East, Principal Meridian, Montana, was accepted September 10, 2003.

T. 13 S., R. 5 E.

The plat, representing Amended Protraction Diagram 3 of unsurveyed Township 13 South, Range 5 East, Principal Meridian, Montana, was accepted September 10, 2003.

T. 14 S., R. 5 E.

The plat, representing Amended Protraction Diagram 3 of unsurveyed Township 14 South, Range 5 East, Principal Meridian, Montana, was accepted September 10, 2003.

T. 15 S., R. 5 E.

The plat, representing Amended Protraction Diagram 3 of unsurveyed Township 15 South, Range 5 East, Principal Meridian, Montana, was accepted September 10, 2003.

Tps. 1 and 2 N., Rs. 9, 10, and 12 W.

The plat, representing the Amended Protraction Diagram 13 Index of unsurveyed Townships 1 and 2 North, Ranges 9, 10, and 12 West, Principal Meridian,Montana, was accepted September 10, 2003.

T. 1 N., R. 10 W.

The plat, representing Amended Protraction Diagram 13 of unsurveyed Township 1 North, Range 10 West, Principal Meridian, Montana, was accepted September 10, 2003.

T. 1 N., R. 12 W.

The plat, representing Amended Protraction Diagram 13 of unsurveyed Township 1 North, Range 12 West, Principal Meridian, Montana, was accepted September 10, 2003.

T. 2 N., R. 9 W.

The plat, representing Amended Protraction Diagram 13 of unsurveyed Township 2 North, Range 9 West, Principal Meridian, Montana, was accepted September 10, 2003.

T. 2 N., R. 10 W.

The plat, representing Amended Protraction Diagram 13 of unsurveyed Township 2 North, Range 10 West, Principal Meridian, Montana, was accepted September 10, 2003.

Tps. 1, 2, 3, and 4 N., Rs. 14 and 15 W.

The plat, representing the Amended Protraction Diagram 14 Index of unsurveyed Townships 1, 2, 3, and 4 North, Ranges 14 and 15 West, Principal Meridian,Montana, was accepted September 10, 2003.

T. 1 N., R. 14 W.

The plat, representing Amended Protraction Diagram 14 of unsurveyed Township 1 North, Range 14 West, Principal Meridian, Montana, was accepted September 10, 2003.

T. 2 N., R. 14 W.

The plat, representing Amended Protraction Diagram 14 of unsurveyed Township 2 North, Range 14 West, Principal Meridian, Montana, was accepted September 10, 2003.

T. 3 N., R. 14 W.

The plat, representing Amended Protraction Diagram 14 of unsurveyed Township 3 North, Range 14 West, Principal Meridian, Montana, was accepted September 10, 2003.

T. 4 N., R. 14 W.

The plat, representing Amended Protraction Diagram 14 of unsurveyed Township 4 North, Range 14 West, Principal Meridian, Montana, was accepted September 10, 2003.

T. 1 N., R. 15 W.

The plat, representing Amended Protraction Diagram 14 of unsurveyed Township 1 North, Range 15 West, Principal Meridian, Montana, was accepted September 10, 2003.

T. 2 N., R. 15 W.

The plat, representing Amended Protraction Diagram 14 of unsurveyed Township 2 North, Range 15 West, Principal Meridian, Montana, was accepted September 10, 2003.

T. 3 N., R. 15 W.

The plat, representing Amended Protraction Diagram 14 of unsurveyed Township 3 North, Range 15 West, Principal Meridian, Montana, was accepted September 10, 2003.

T. 4 N., R. 15 W.

The plat, representing Amended Protraction Diagram 14 of unsurveyed Township 4 North, Range 15 West, Principal Meridian, Montana, was accepted September 10, 2003.

Tps. 21, 22, 23, and 24 N., Rs. 12, 13, 14, 15, and 16 W.

The plat, representing the Amended Protraction Diagram 34 Index of unsurveyed Townships 21, 22, 23, and 24 North, Ranges 12, 13, 14, 15, and 16 West,Principal Meridian, Montana, was accepted September 12, 2003.

T. 21 N., R. 12 W.

The plat, representing Amended Protraction Diagram 34 of unsurveyed Township 21 North, Range 12 West, Principal Meridian, Montana, was accepted September 12, 2003.

T. 21 N., R. 13 W.

The plat, representing Amended Protraction Diagram 34 of unsurveyed Township 21 North, Range 13 West, Principal Meridian, Montana, was accepted September 12, 2003.

T. 21 N., R. 14 W.

The plat, representing Amended Protraction Diagram 34 of unsurveyed Township 21 North, Range 14 West, Principal Meridian, Montana, was accepted September 12, 2003.

T. 22 N., R. 12 W.

The plat, representing Amended Protraction Diagram 34 of unsurveyed Township 22 North, Range 12 West, Principal Meridian, Montana, was accepted September 12, 2003.

T. 22 N., R. 13 W.

The plat, representing Amended Protraction Diagram 34 of unsurveyed Township 22 North, Range 13 West, Principal Meridian, Montana, was accepted September 12, 2003.

T. 22 N., R. 14 W.

The plat, representing Amended Protraction Diagram 34 of unsurveyed Township 22 North, Range 14 West, Principal Meridian, Montana, was accepted September 12, 2003.

T. 22 N., R. 15 W.

The plat, representing Amended Protraction Diagram 34 of unsurveyed Township 22 North, Range 15 West, Principal Meridian, Montana, was accepted September 12, 2003.

T. 23 N., R. 12 W.

The plat, representing Amended Protraction Diagram 34 of unsurveyed Township 23 North, Range 12 West, Principal Meridian, Montana, was accepted September 12, 2003.

T. 23 N., R. 13 W.

The plat, representing Amended Protraction Diagram 34 of unsurveyed Township 23 North, Range 13 West, Principal Meridian, Montana, was accepted September 12, 2003.

T. 23 N., R. 14 W.

The plat, representing Amended Protraction Diagram 34 of unsurveyed Township 23 North, Range 14 West, Principal Meridian, Montana, was accepted September 12, 2003.

T. 23 N., R. 15 W.

The plat, representing Amended Protraction Diagram 34 of unsurveyed Township 23 North, Range 15 West, Principal Meridian, Montana, was accepted September 12, 2003.

T. 23 N., R. 16 W.

The plat, representing Amended Protraction Diagram 34 of unsurveyed Township 23 North, Range 16 West, Principal Meridian, Montana, was accepted September 12, 2003.

T. 24 N., R. 12 W.

The plat, representing Amended Protraction Diagram 34 of unsurveyed Township 24 North, Range 12 West, Principal Meridian, Montana, was accepted September 12, 2003.

T. 24 N., R. 13 W.

The plat, representing Amended Protraction Diagram 34 of unsurveyed Township 24 North, Range 13 West, Principal Meridian, Montana, was accepted September 12, 2003.

T. 24 N., R. 14 W.

The plat, representing Amended Protraction Diagram 34 of unsurveyed Township 24 North, Range 14 West, Principal Meridian, Montana, was accepted September 12, 2003.

T. 24 N., R. 15 W.

The plat, representing Amended Protraction Diagram 34 of unsurveyed Township 24 North, Range 15 West, Principal Meridian, Montana, was accepted September 12, 2003.

T. 24 N., R. 16 W.

The plat, representing Amended Protraction Diagram 34 of unsurveyed Township 24 North, Range 16 West, Principal Meridian, Montana, was accepted September 12, 2003.

Tps. 25, 26, 27, and 28 N., Rs. 13, 14, 15, and 16 W.

The plat, representing the Amended Protraction Diagram 37 Index of unsurveyed Townships 25, 26, 27, and 28 North, Ranges 13, 14, 15, and 16 West, Principal Meridian, Montana, was accepted September 12, 2003.

T. 25 N., R. 13 W.

The plat, representing Amended Protraction Diagram 37 of unsurveyed Township 25 North, Range 13 West, Principal Meridian, Montana, was accepted September 12, 2003.

T. 25 N., R. 14 W.

The plat, representing Amended Protraction Diagram 37 of unsurveyed Township 25 North, Range 14 West, Principal Meridian, Montana, was accepted September 12, 2003.

T. 25 N., R. 15 W.

The plat, representing Amended Protraction Diagram 37 of unsurveyed Township 25 North, Range 15 West, Principal Meridian, Montana, was accepted September 12, 2003.

T. 25 N., R. 16 W.

The plat, representing Amended Protraction Diagram 37 of unsurveyed Township 25 North, Range 16 West, Principal Meridian, Montana, was accepted September 12, 2003.

T. 26 N., R. 13 W.

The plat, representing Amended Protraction Diagram 37 of unsurveyed Township 26 North, Range 13 West, Principal Meridian, Montana, was accepted September 12, 2003.

T. 26 N., R. 14 W.

The plat, representing Amended Protraction Diagram 37 of unsurveyed Township 26 North, Range 14 West, Principal Meridian, Montana, was accepted September 12, 2003.

T. 26 N., R. 15 W.

The plat, representing Amended Protraction Diagram 37 of unsurveyed Township 26 North, Range 15 West, Principal Meridian, Montana, was accepted September 12, 2003.

T. 26 N., R. 16 W.

The plat, representing Amended Protraction Diagram 37 of unsurveyed Township 26 North, Range 16 West, Principal Meridian, Montana, was accepted September 12, 2003.

T. 27 N., R. 13 W.

The plat, representing Amended Protraction Diagram 37 of unsurveyed Township 27 North, Range 13 West, Principal Meridian, Montana, was accepted September 12, 2003.

T. 27 N., R. 14 W.

The plat, representing Amended Protraction Diagram 37 of unsurveyed Township 27 North, Range 14 West, Principal Meridian, Montana, was accepted September 12, 2003.

T. 27 N., R. 15 W.

The plat, representing Amended Protraction Diagram 37 of unsurveyed Township 27 North, Range 15 West, Principal Meridian, Montana, was accepted September 12, 2003.

T. 27 N., R. 16 W.

The plat, representing Amended Protraction Diagram 37 of unsurveyed Township 27 North, Range 16 West, Principal Meridian, Montana, was accepted September 12, 2003.

T. 28 N., R. 13 W.

The plat, representing Amended Protraction Diagram 37 of unsurveyed Township 28 North, Range 13 West, Principal Meridian, Montana, was accepted September 12, 2003.

T. 28 N., R. 14 W.

The plat, representing Amended Protraction Diagram 37 of unsurveyed Township 28 North, Range 14 West, Principal Meridian, Montana, was accepted September 12, 2003.

T. 28 N., R. 15 W.

The plat, representing Amended Protraction Diagram 37 of unsurveyed Township 28 North, Range 15 West, Principal Meridian, Montana, was accepted September 12, 2003.

T. 28 N., R. 16 W.

The plat, representing Amended Protraction Diagram 37 of unsurveyed Township 28 North, Range 16 West, Principal Meridian, Montana, was accepted September 12, 2003.

Tps. 3 and 4 S., Rs. 17 and 18 W.

The plat, representing the Amended Protraction Diagram 53 Index of unsurveyed Townships 3 and 4 South, Ranges 17 and 18 West, Principal Meridian, Montana, was accepted September 10, 2003.

T. 3 S., R. 18 W.

The plat, representing Amended Protraction Diagram 53 of unsurveyed Township 3 South, Range 18 West, Principal Meridian, Montana, was accepted September 10, 2003.

T. 4 S., R. 17 W.

The plat, representing Amended Protraction Diagram 53 of unsurveyed Township 4 South, Range 17 West, Principal Meridian, Montana, was accepted September 10, 2003.

T. 4 S., R. 18 W.

The plat, representing Amended Protraction Diagram 53 of unsurveyed Township 4 South, Range 18 West, Principal Meridian, Montana, was accepted September 10, 2003.

Tps. 5, 6, 7, and 8 S., Rs. 16, 17, and 18 W.

The plat, representing the Amended Protraction Diagram 54 Index of unsurveyed Townships 5, 6, 7, and 8 South, Ranges 16, 17, and 18 West, Principal Meridian, Montana, was accepted September 10, 2003.

T. 5 S., R. 16 W.

The plat, representing Amended Protraction Diagram 54 of unsurveyed Township 5 South, Range 16 West, Principal Meridian, Montana, was accepted September 10, 2003.

T. 5 S., R. 17 W.

The plat, representing Amended Protraction Diagram 54 of unsurveyed Township 5 South, Range 17 West, Principal Meridian, Montana, was accepted September 10, 2003.

T. 5 S., R. 18 W.

The plat, representing Amended Protraction Diagram 54 of unsurveyed Township 5 South, Range 18 West, Principal Meridian, Montana, was accepted September 10, 2003.

T. 6 S., R. 17 W.

The plat, representing Amended Protraction Diagram 54 of unsurveyed Township 6 South, Range 17 West, Principal Meridian, Montana, was accepted September 10, 2003.

T. 7 S., R. 16 W.

The plat, representing Amended Protraction Diagram 54 of unsurveyed Township 7 South, Range 16 West, Principal Meridian, Montana, was accepted September 10, 2003.

T. 7 S., R. 17 W.

The plat, representing Amended Protraction Diagram 54 of unsurveyed Township 7 South, Range 17 West, Principal Meridian, Montana, was accepted September 10, 2003.

T. 8 S., R. 16 W.

The plat, representing Amended Protraction Diagram 54 of unsurveyed Township 8 South, Range 16 West, Principal Meridian, Montana, was accepted September 10, 2003.

We will place copies of the plats of the amended protraction diagrams we described in the open files. They will be available to the public as a matter of information.

If BLM receives a protest against these amended protraction diagrams, as shown on these plats, prior to the date of the official filings, we will stay the filings pending our consideration of the protest.

We will not officially file these plats of the amended protraction diagrams until the day after we have accepted or dismissed all protests and they have become final, including decisions or appeals.

Dated: October 1, 2003.
Thomas M. Deiling,
Chief Cadastral Surveyor, Division of Resources.

[FR Doc. 03-25579 Filed 10-8-03; 8:45 am]

BILLING CODE 4310-$$-P